DEPARTMENT OF ENERGY

Federal Energy Regulatory Commission

[Docket No. EL10-5-000]

Public Service Company of Colorado; Notice of Institution of Proceeding and Refund Effective Date

October 23, 2009.

On October 22, 2009, the Commission issued an order that instituted a proceeding in Docket No. EL10-5-000, pursuant to section 206 of the Federal Power Act (FPA), 16 U.S.C. 824e (2006), to consider the justness and reasonableness of Public Service Company of Colorado's (PSCo) $15.16/kW/month demand charge under its Coordination Sales Tariff.¹ Western Systems Power Pool, 129 FERC ¶ 61,055 (2009).

¹ PSCo Coordination Sales Tariff FERC Electric Tariff, Original Volume No. 2.

The refund effective date in Docket No. EL10-5-000, established pursuant to section 206(b) of the FPA, will be the date of publication of this notice in the Federal Register.

Any person desiring to intervene in the above proceeding must file in accordance with Rule 214 of the Commission's Rules of Practice and Procedure (18 CFR 385.214) within 21 days of the date of this notice. It is not necessary to separately intervene again in a subdocket related to a compliance filing if you have previously intervened in the same docket. Anyone filing a motion to intervene must serve a copy of that document on the Applicant.

The Commission encourages electronic submission of interventions in lieu of paper, using the FERC Online links at http://www.ferc.gov. To facilitate electronic service, persons with Internet access who will eFile a document and/or be listed as a contact for an intervenor must create and validate an eRegistration account using the eRegistration link. Select the eFiling link to log on and submit the intervention.

Persons unable to file electronically should submit an original and 14 copies of the intervention to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. E9-26235 Filed 10-30-09; 8:45 am]

BILLING CODE 6717-01-P